DEPARTMENT OF AGRICULTURE

Forest Service

Information Collection; Monitoring Trends in Burn Severity User Satisfaction Survey

AGENCY: Forest Service, USDA.

ACTION: Notice; request for comment.

SUMMARY: In accordance with the Paperwork Reduction Act of 1995, the Forest Service is seeking comments from all interested individuals and organizations on the new information collection, Monitoring Trends in Burn Severity User Satisfaction Survey.

DATES: Comments must be received in writing on or before April 29, 2022 to be assured of consideration. Comments received after that date will be considered to the extent practicable.

ADDRESSES: Commenters are encouraged to submit comments by email, if possible. You may submit comments by any of the following methods:

• Email: carl.albury@usda.gov.

• Mail: Carl Albury, Geospatial Technology and Applications Center (GTAC), USDA Forest Service, 125 South State Street, Suite 7105, Salt Lake City, UT 84138.

• Phone: 202-205-1689.

• Hand Delivery/Courier: Carl Albury, Geospatial Technology and Applications Center (GTAC), USDA Forest Service, 125 South State Street, Suite 7105, Salt Lake City, UT 84138.

• Facsimile: 801-975-3478.

Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may inspect the draft supporting statement and/or comments received at 125 South State Street, Suite 7105, Salt Lake City, UT 84138 during normal business hours. Visitors are encouraged to call ahead to 801-975-3351 to facilitate entry to the building. The public may request an electronic copy of the draft supporting statement and/or any comments received be sent via return email. Requests should be emailed to carl.albury@usda.gov.

FOR FURTHER INFORMATION CONTACT: Carl Albury, USDA Forest Service, Geospatial Technology and Application Center (GTAC), 801-975-3351. Individuals who use telecommunication devices for the deaf (TDD) may call the Federal Information Relay Service (FIRS) at 1-800-877-8339 twenty-four hours a day, every day of the year, including holidays.

SUPPLEMENTARY INFORMATION:

Title: Monitoring Trends in Burn Severity User Satisfaction Survey.

OMB Number: 0596-NEW.

Expiration Date of Approval:

Type of Request: NEW.

Abstract: Monitoring Trends in Burn Severity (MTBS) is an interagency program whose goal is to consistently map the location, extent, and burn severity of large fires across all lands of the United States from 1984 to present. MTBS data is distributed in a variety of geospatial formats that are accessible by website download. This survey will allow the MTBS program to assess the needs of its users and how well the program is meeting those needs. This survey will be offered to anyone visiting the MTBS website (www.MTBS.gov). The survey will be delivered using the Microsoft Forms platform. Participation in the survey will be voluntary. The survey will solicit information pertaining to what data the visitor is interested in, the ease with which those data can be accessed, how the visitor will utilize the accessed data, the visitor's satisfaction with the program and data products, and any suggestions to improvements to products/services the visitor may have. The information collected from this survey will be used to guide program development and changes to better meet the visitor needs. The survey results will be collected and analyzed by federal staff. If this information is not collected the MTBS program will be unable to tailor its products and services to the needs of its users in the government and public domains.

Affected Public: Individuals, Private Sector Business and Non-Profit Organizations, State Government, Local Government and Tribal Government.

Estimate of Burden per Response: 5 minutes.

Estimated Annual Number of Respondents: 1,500 respondents.

Estimated Annual Number of Responses per Respondent: 1 response.

Estimated Total Annual Burden on Respondents: 7,500 minutes (125 hours).

Comment Is Invited: Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Chris French,
Deputy Chief, National Forest Systems.

[FR Doc. 2022-04120 Filed 2-25-22; 8:45 am]

BILLING CODE 3411-15-P